DEPARTMENT OF ENERGY

Federal Energy Regulatory Commission

[Docket No. RP00-461-002]

Western Gas Interstate Company; Notice of Compliance Filing

June 4, 2002.

Take notice that on May 28, 2002, Western Gas Interstate Company (WGI), tendered for filing as part of its FERC Gas Tariff, Fourth Revised Volume No, 1, the following tariff sheets, with a proposed effective date of July 1, 2002.

Title Page Second Revised Sheet No. 229

irst Revised Sheet No. 111

First Revised Sheet No. 134

First Revised Sheet No. 136A

Second Revised Sheet No. 137

First Revised Sheet No. 137A

Second Revised Sheet No. 140

Second Revised Sheet No. 142

Second Revised Sheet No. 143

Second Revised Sheet No. 145

First Revised Sheet No. 223

First Revised Sheet No. 224

First Revised Sheet No. 225

Second Revised Sheet No. 226

Second Revised Sheet No. 227

Second Revised Sheet No. 229

First Revised Sheet No. 230A

First Revised Sheet No. 230B

First Revised Sheet No. 230C

Second Revised Sheet No. 231

Second Revised Sheet No. 236

Third Revised Sheet No. 239

Second Revised Sheet No. 242

Second Revised Sheet No. 245

First Revised Sheet No. 246

Fourth Revised Sheet No. 247

Third Revised Sheet No. 248

First Revised Sheet No. 256

First Revised Sheet No. 275

WGI states that the filing is being made in compliance with the Commission's March 14, 2002 order in this proceeding, to implement changes in WGI's tariff to comply with Order Nos. 637 and 637-A, as well as Order Nos. 587-G, 587-H, 587-I, 587-L, 587-M, and 587-O.

WGI states that copies of this filing were served on its customers and interested state commissions.

Any person desiring to protest said filing should file a protest with the Federal Energy Regulatory Commission, 888 First Street, NE., Washington, DC 20426, in accordance with Section 385.211 of the Commission's Rules and Regulations. All such protests must be filed on or before June 10, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-14472 Filed 6-7-02; 8:45 am]

BILLING CODE 6717-01-P